DEPARTMENT OF AGRICULTURE

Submission for OMB Review; Comment Request

July 2, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Treatment of Fruits and Vegetables.

OMB Control Number: 0579-0281.

Summary of Collection: Under the Plant Protection Act (7 U.S.C. 7701 et seq.) the Secretary of Agriculture is authorized to regulate the importation of plants, plant product, and other articles to prevent the introduction of injurious plant pests. The Phytosanitary treatments regulations contained in Title 7 of the Code of Federal Regulations (CFR) Part 305 set out standards and schedules for treatments required in 7 CFR parts 301, 318, and 319 for articles whose importation could introduce plant pests or noxious weeds into the United States or whose interstate movement could spread plant pests or noxious weeds within the United States. The fruits and vegetables regulations list the approved doses for irradiation treatment of imported fruits and vegetables including a minimum generic dose for the fruit fly family, the minimum dose of irradiation for some specific fruit fly species, and provides for the use of irradiation as a treatment for cut flowers and foliage.

Need and Use of the Information: Certain fruits and vegetables moved interstate from Hawaii, Puerto Rico, and the U.S. Virgin Islands must undergo irradiation treatment. These requirements involve information collection activities, including the use of permits, certificates, request for facility approval, and package marking. If this information were not collected, it would seriously affect APHIS' ability to ensure that certain fruit and vegetables entering the United States from numerous countries do not harbor fruit flies or other insect pests that could cause serious damage to American agriculture.

Description of Respondents: Business or other for-profit; Federal Government.

Number of Respondents: 23.

Frequency of Responses: Reporting; On occasion.

Total Burden Hours: 6.

Animal and Plant Health Inspection Service

Title: Importation of Baby Corn and Baby Carrots from Zambia.

OMB Control Number: 0579-0284.

Summary of Collection: Under the Plant Protection Act (PPA) (7 U.S.C. 7701—et seq.) the Secretary of Agriculture is authorized to carry out operations or measures to detect, eradicate, suppress, control, prevent, or retard the spread of plant pests new to the United States or not known to be widely distributed throughout the United States. Regulations authorized by the PPA concerning the importation of fruits and vegetables into the United States from certain parts of the world are contained in “Subpart Fruits and Vegetables” (7 CFR 319.56-8 through 319.56-50).

The Animal and Plant Health Inspection Service (APHIS) regulations allow the importation into the continental United States of fresh, dehusked immature (baby) sweet corn and fresh baby carrots from Zambia. As a condition of entry, both commodities are subject to inspection at the port of first arrival and must be accompanied by a phytosanitary certificate with an additional declaration stating that the commodity has been inspected and found free of the quarantine pest listed in the certificate.

Need and Use of the Information: APHIS requires that some plants or plant products are accompanied by a photosanitary inspection certificate that is completed by plant health officials in the originating or transiting country. APHIS uses the information on the certificate to determine the pest condition of the shipment at the time of inspection in the foreign country. This information is used as a guide to the intensity of the inspection APHIS conducts when the shipment arrives. Without this information, all shipments would need to be inspected very thoroughly, thereby requiring considerably more time.

Description of Respondents: Federal Government.

Number of Respondents: 1.

Frequency of Responses: Reporting: On occasion.

Total Burden Hours: 1.

Animal and Plant Health Inspection Service

Title: Importation of Small Lots of Seeds Without Phytosanitary Certificates.

OMB Control Number: 0579-0285.

Summary of Collection: Under the Plant Protection Act (PPA) (7 U.S.C. 7701-7772), the Secretary of Agriculture is authorized to prohibit or restrict the importation, entry, or movement of plants and plant pests to prevent the introduction of plant pests into the United States or their dissemination within the United States. The regulations contained in “Subpart-Plants for Planting” (7 CFR 319.37-1 through 319.37-14) prohibit or restrict, among other things, the importation of living plants, plant parts, and seed for propagation. These regulations allow small lots of seed to be imported into the United States under an import permit with specific conditions, including seed packet labeling, as an alternative to a phytosanitary certificate requirement.

Need and Use of the Information: APHIS' Plant Protection and Quarantine program will issue a permit indicating the applicable conditions for importation if, after reviewing the application, the articles are deem eligible to be imported into the United States under the conditions specified in the permit. Permits would be issued at the discretion of APHIS to any importer, whether an individual or an organization, who would then send the permit to the overseas supplier. A certificate of inspection in the form of a label is required to be attached to each carton of the articles and to an airway bill of lading or delivery tick accompanying the articles. Each seed packet must be clearly labeled with the name of the collector/shipper, the country or origin, and the scientific name at least to the genus level, and preferably to the species level. Without the information APHIS could not verify that imported nursery stock does not present significant risk of introducing plant pests and plant disease into the United States.

Description of Respondents: Individuals or households; Business or other for-profit.

Number of Respondents: 1,600.

Frequency of Responses: Reporting: On occasion.

Total Burden Hours: 740.

Animal and Plant Health Inspection Service

Title: Special Needs Request Under the Plant Protection Act.

OMB Control Number: 0579-0291.

Summary of Collection: The Plant Protection Act (PPA) (7 U.S.C. 7701 et seq.) gives authority to the Secretary of Agriculture to prohibit or restrict the importation, entry, exportation, or movement in interstate commerce of any plant, plant product, biological control organism, noxious weed, article, or means of conveyance if the Secretary determines that the prohibition or restriction is necessary to prevent the introduction of plant pests or noxious weed into the United States. The Secretary has delegated this authority to the Administrator of the Animal and Plant Health Inspection Service (APHIS), which administers regulations to implement the PPA. Regulations governing the interstate movement of plants, plant products, and other articles are contained in 7 CFR part 301, “Domestic Quarantine Notices.” The domestic quarantine regulations is a process by which a State or political subdivision of a State can request approval to impose prohibitions or restrictions on the movement in interstate commerce of specific articles that are in addition to the prohibitions and restrictions imposed by APHIS.

Need and Use of the Information: APHIS believes that specific information, which would be considered along with more general information available to APHIS, would be necessary for the Administrator to be able to determine whether to grant or deny a request for a special need exemption. The administrator's determination would be based upon his or her review of the information submitted by the State or political subdivision in support of its request and would take into account any comments received.

Description of Respondents: State, Local or Tribal Government.

Number of Respondents: 1.

Frequency of Responses: Reporting: On occasion.

Total Burden Hours: 160.

Ruth Brown,
Departmental Information Collection Clearance Officer.

[FR Doc. 2012-16607 Filed 7-6-12; 8:45 am]

BILLING CODE 3410-34-P